EXPORT-IMPORT BANK OF THE UNITED STATES

[Public Notice: EIB-2014-0016]

Application for Final Commitment for a Long-Term Loan or Financial Guarantee in Excess of $100 Million: AP088368XX

AGENCY: Export-Import Bank of the United States.

ACTION: Notice.

SUMMARY: This Notice is to inform the public, in accordance with Section 3(c)(10) of the Charter of the Export-Import Bank of the United States (“Ex-Im Bank”), that Ex-Im Bank has received an application for final commitment for a long-term loan or financial guarantee in excess of $100 million (as calculated in accordance with Section 3(c)(10) of the Charter).

Comments received within the comment period specified below will be presented to the Ex-Im Bank Board of Directors prior to final action on this Transaction. Comments received will be made available to the public.

DATES: Comments must be received on or before April 4, 2014 to be assured of consideration before final consideration of the transaction by the Board of Directors of Ex-Im Bank.

ADDRESSES: Comments may be submitted through Regulations.gov at WWW.REGULATIONS.GOV. To submit a comment, enter EIB-2014-0016 under the heading “Enter Keyword or ID” and select Search. Follow the instructions provided at the Submit a Comment screen. Please include your name, company name (if any) and EIB-2014-0016 on any attached document.

Reference: AP088368XX.

Purpose and Use:

Brief description of the purpose of the transaction:

This transaction will support the export of a U.S.-manufactured offshore drilling platform and its related equipment.

Brief non-proprietary description of the anticipated use of the items being exported:

To be used for oil exploration and production in the Gulf of Mexico.

To the extent that Ex-Im Bank is reasonably aware, the item(s) being exported may be used to produce exports or provide services in competition with the exportation of goods or provision of services by a United States industry.

Parties:

Principal Supplier: Keppel AmFels, National Oilwell Varco.

Obligor: Central Panuco, S.A. de C.V.

Guarantor(s): Perforadora Central SA de CV (“Perforadora”), 100% owner of Pánuco and Perforadora's affiliate companies; Exploraciones y Perforadora Central SA de CV and Mantenimiento Perforadora Cd del Carmen SC de RL de CV, as joint and several guarantors (“Guarantors”).

Description of Items Being Exported: An offshore drilling platform and its related equipment.

Information on Decision: Information on the final decision for this transaction will be available in the “Summary Minutes of Meetings of Board of Directors” on http://exim.gov/newsandevents/boardmeetings/board

Confidential Information: Please note that this notice does not include confidential or proprietary business information; information which, if disclosed, would violate the Trade Secrets Act; or information which would jeopardize jobs in the United States by supplying information that competitors could use to compete with companies in the United States.

Joyce Brotemarkle Stone,
Program Specialist, Office of the General Counsel.

[FR Doc. 2014-05036 Filed 3-7-14; 8:45 am]

BILLING CODE 6690-01-P